DEPARTMENT OF LABOR

Employment and Training Administration

[TA-W-42,218]

Kent, Inc., Fort Kent, ME; Notice of Termination of Investigation

Pursuant to section 221 of the Trade Act of 1974, an investigation was initiated on October 7, 2002 in response to a worker petition which was filed by a company official on behalf of workers at Kent, Inc., Fort Kent, Maine.

The petitioner has requested that the petition be withdrawn. Consequently, further investigation in this case would serve no purpose, and the investigation has been terminated.

Signed in Washington, DC this 16th day of October, 2002.
Linda G. Poole,
Certifying Officer, Division of Trade Adjustment Assistance.

[FR Doc. 02-28036 Filed 11-4-02; 8:45 am]

BILLING CODE 4510-30-P